DEPARTMENT OF DEFENSE

Office of the Department of the Air Force

Performance Review Board

AGENCY: Department of the Air Force, DoD.

ACTION: Notice.

SUMMARY: Notice is given of the names of the 2019 Performance Review Board for the Department of the Air Force.

FOR FURTHER INFORMATION CONTACT: Please direct any written comments or requests for information to Ms. Stacia Thompson, Air Force Senior Executive Management Office, AF/A1LS, 1040 Air Force Pentagon, Washington, DC 20330-1040 (PH: 703-693-6447; or via email at stacia.g.thompson.civ@mail.mil).

SUPPLEMENTARY INFORMATION: Pursuant to 5 U.S.C. 4314(c)(1-5), the Department of the Air Force announces the appointment of members to the Air Force's Senior Executive Service Performance Review Board. Appointments are made by the authorizing official. Each board member shall review and evaluate performance scores provided by the Senior Executive's rater/immediate supervisor. Performance standards must be applied consistently across the Air Force. The board will make final recommendations to the authorizing official relative to the performance of the executive.

The members of the 2019 Performance Review Board for the Air Force are:

1. The Honorable Mr. Matthew P. Donovan, Under Secretary of the Air Force

2. General Stephen W. Wilson, Vice Chief of Staff of the Air Force

3. Gen Arnold Bunch, Commander, Air Force Materiel Command

4. The Honorable Mr. Shon J. Manasco, Assistant Secretary of the Air Force for Manpower and Reserve Affairs

5. Lt Gen Richard Clark, Deputy Chief of Staff for Strategic Deterrence and Nuclear Integration

6. Lt Gen David Thompson, Vice Commander, Air Force Space Command

7. Lt Gen (Sel) Mary O'Brien, Deputy Chief of Staff, Intelligence, Surveillance, Reconnaissance, and Cyber Effects Operations

8. Ms. Darlene Costello, Principal Deputy Assistant Secretary of the Air Force Acquisition, Technology & Logistics

9. Mr. John Fedrigo, Principal Deputy Assistant Secretary of Manpower and Reserve Affairs

10. Ms. Gwendolyn R. DeFilippi, Assistant Deputy Chief of Staff for Manpower, Personnel and Services

11. Mr. Richard Hartley, Principal Deputy Assistant Secretary for Financial Management and Comptroller

12. Mr. Anthony Reardon, Administrative Assistant to the Secretary of the Air Force

13. Mr. John Salvatori, Director, Concepts, Development and Management Office

14. Mr. Craig Smith, Principal Deputy General Counsel of the Air Force

15. Mr. Kevin Williams, Director for Studies, Analyses and Assessments

16. Ms. Patricia M. Young, Air Force Materiel Command Executive Director

The following Tier 3 SES members will serve as alternates:

1. Mr. Doug Bennett, Auditor General of the Air Force

2. Mr. James Brooks, Assistant Deputy Chief of Staff for Strategic Deterrence and Nuclear Integration

3. Mr. William Marion III, Deputy Chief Information Officer

4. Mr. Joseph McDade, Assistant Deputy Chief of Staff for Plans and Programs

5. Mr. Richard Lombardi, Deputy Under Secretary of the Air Force, Management and Deputy Chief Management Officer

6. Ms. Kelli Seybolt, Deputy Under Secretary of the Air Force, International Affairs

7. Mr. Randall Walden, Director and Program Executive Officer for the Air Force Rapid Capabilities Office, Office of the Administrative Assistant to the Secretary of the Air Force

Adriane Paris,
Acting Air Force Federal Register Liaison Officer.

[FR Doc. 2019-24099 Filed 11-4-19; 8:45 am]

BILLING CODE 5001-10-P